OFFICE OF THE UNITED STATES TRADE REPRESENTATIVE

[Docket No. USTR-2016-0025]

Public Comments and Hearing Regarding Request To Reinstate Action Taken in Connection With the European Union's Measures Concerning Meat and Meat Products

AGENCY: Office of the United States Trade Representative.

ACTION: Extension of date for submission of post-hearing rebuttal comments.

SUMMARY: The Office of the United States Trade Representative (USTR) published a document in the Federal Register on December 28, 2016 (81 FR 95724) requesting comments and scheduling a public hearing on a request to reinstate action taken in connection with European Union measures on meat and meat products. The date specified for the submission of rebuttal comments has been extended to March 8, 2017.

FOR FURTHER INFORMATION CONTACT: William L. Busis, Deputy Assistant U.S. Trade Representative for Monitoring and Enforcement and Chair of the Section 301 Committee, or Katherine Linton, Assistant General Counsel, at (202) 395-3150.

Extension of Date for Rebuttal Comments

1. “Dates” Caption.

In the Federal Register on December 28, 2016 (81 FR 95724), replace the third paragraph in the “Dates” caption with the following: March 8, 2017 at 11:59 p.m.: Deadline for submission of post-hearing rebuttal comments.

2. “Request for Public Comments and To Testify at the Hearing” Caption.

In the Federal Register on December 28, 2016 (81 FR at 95725), replace the last sentence of the fifth paragraph of the caption titled “D. Request for Public Comments and To Testify at the Hearing” with the following: The deadline for submission of post-hearing rebuttal comments is March 8, 2017 at 11:59 p.m.

3. “Requirements for Submissions” Caption.

In the Federal Register on December 28, 2016 (81 FR at 95726), replace the last sentence of the first paragraph of the caption titled “E. Requirements for Submissions” with the following: Rebuttal comments are due by 11:59 p.m. on March 8, 2017.

William L. Busis,
Chair, Section 301 Committee, Office of the United States Trade Representative.

[FR Doc. 2017-03602 Filed 2-23-17; 8:45 am]

BILLING CODE 3290-F7-P